DEPARTMENT OF JUSTICE

[OMB Number 1117-0009]

Agency Information Collection Activities; Proposed eCollection eComments Requested; Controlled Substances Import/Export Declaration

AGENCY: Drug Enforcement Administration, Department of Justice.

ACTION: 30-Day notice.

SUMMARY: The Department of Justice (DOJ), Drug Enforcement Administration (DEA), will be submitting the following information collection request to the Office of Management and Budget (OMB) for review and approval in accordance with the Paperwork Reduction Act of 1995. This proposed information collection was previously published in the Federal Register at 79 FR 29801-29802, May 23, 2014, allowing for a 60 day comment period.

DATES: Comments are encouraged and will be accepted for 30 days until September 4, 2014.

FOR FURTHER INFORMATION CONTACT: If you have additional comments especially on the estimated public burden or associated response time, suggestions, or need a copy of the proposed information collection instrument with instructions or additional information, please contact Imelda Paredes, Office of Diversion Control, Drug Enforcement Administration, 8701 Morrissette Drive, Springfield, Virginia 22152. Written comments and/or suggestions can also be directed to the Office of Management and Budget, Office of Information and Regulatory Affairs, Attention Department of Justice Desk Officer, Washington, DC 20530 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Overview of this information collection:

1. Type of Information Collection: Extension of a currently approved collection.

2. The Title of the Form/Collection: Controlled Substances Import/Export Declaration—DEA Form 236.

3. The agency form number: 1117-0009.

4. Affected public who will be asked or required to respond, as well as a brief abstract:

Primary: Business or other for-profit.

Other: Federal, State, local or tribal government.

Abstract: DEA Form 236 provides the DEA with oversight and control over the importation and exportation of controlled substances. 21 CFR part 1312, promulgated pursuant to 21 U.S.C. 952 and 21 U.S.C. 953, requires registrants who desire to import non-narcotic substances in Schedules III, IV, and V or to export non-narcotic substances in Schedules III and IV and any other substance in Schedule V to furnish a controlled substances import declaration/controlled substances export invoice on a DEA Form 236.

5. An estimate of the total number of respondents and the amount of time estimated for an average respondent to respond: It is estimated that there are 342 respondents, 5,064 (4,717 paper/347 electronic) annual responses, and that each response takes 18 minutes (paper) and 15 minutes (electronic) to complete.

6. An estimate of the total public burden (in hours) associated with the collection: 2,282.6 annual burden hours.

If additional information is required contact: Jerri Murray, Department Clearance Officer, United States Department of Justice, Justice Management Division, Policy and Planning Staff, Two Constitution Square, 145 N Street NE., 3E.405B, Washington, DC 20530.

Dated: July 30, 2014.
Jerri Murray,
Department Clearance Officer for PRA, U.S. Department of Justice.

[FR Doc. 2014-18439 Filed 8-4-14; 8:45 am]

BILLING CODE 4410-09-P